NATIONAL ARCHIVES AND RECORDS ADMINISTRATION

[NARA-2017-041]

Privacy Act of 1974; System of Records

AGENCY: National Archives and Records Administration (NARA).

ACTION: Rescinding a System of Records Notice (SORN).

SUMMARY: NARA is rescinding its (SORN) for its Ride Share Locator Database (NARA 31). We no longer maintain this information or the system of records.

DATES: We stopped maintaining this information and the system of records on May 2, 2017.

ADDRESSES: Send comments on this notice to regulation_comments@nara.gov.

FOR FURTHER INFORMATION CONTACT: Kimberly Keravuori, External Policy Program Manager, by telephone at (301) 837-3151 or by email at kimberly.keravuori@nara.gov.

SUPPLEMENTARY INFORMATION: One of the purposes of the Privacy Act of 1974, as amended (5 U.S.C. 552(a)(e)(4)), stated in section 2(b)(4) of the Act, is to provide people with certain safeguards against an invasion of privacy when a Federal agency collects, stores, and uses personal information. As a result, the Act requires Federal agencies to ensure that any record of identifiable personal information is current and accurate for its intended use, that the agency is providing adequate safeguards to prevent misuse of such information, and that the agency is not sharing the information unless such action is for a necessary and lawful purpose. NARA follows these principles.

NARA 31 consisted of information that NARA collected from employees at our College Park facility who were interested in participating in a ride share program we sponsored for employees' benefit. The information included peoples' names, addresses, NARA organizational unit, and work phone number. We provided the information to other employees who expressed an interest in sharing rides for daily commuting to the facility. The records in this system consisted of both paper and electronic records, were temporary in nature, and we routinely destroyed them in accordance with disposition instructions in NARA's Records Schedule.

In the last few years, however, the need for an employee ride share program has died out and we no longer have a reason to maintain the information or the system. NARA employees are able to make use of social media and other similar methods to connect with each other and coordinate rides, so the need for the agency to manage a program is gone. As a result, and in compliance with the Privacy Act's tenets that any personal information an agency keeps is both up-to-date relevant, and necessary, we have closed down the system of records, destroyed the last version of the information contained within it, and are now rescinding the SORN for this system.

System Name and Number:

NARA 31, Ride Share Locator Database.

History:

We last reviewed, updated, and published the notice for this system of records in the Federal Register on December 20, 2013 (78 FR 77255, December 20, 2013), along with the rest of our SORNs.

David S. Ferriero,
Archivist of the United States.

[FR Doc. 2017-11887 Filed 6-7-17; 8:45 am]

BILLING CODE 7515-01-P